DEPARTMENT OF THE INTERIOR

Bureau of Indian Affairs

[2231A2100DD/AAKC001030/A0A501010.999900]

Draft Environmental Impact Statement for the Coquille Indian Tribe Fee-to-Trust and Gaming Facility Project, City of Medford, Jackson County, Oregon

AGENCY: Bureau of Indian Affairs, Interior.

ACTION: Notice of comment period extension.

SUMMARY: The Bureau of Indian Affairs (BIA) is announcing an extension of the comment period for the Draft Environmental Impact Statement (DEIS) for the Coquille Indian Tribe fee-to-trust and Gaming Facility Project, City of Medford, Jackson County, Oregon. Additionally, this notice announces that the BIA intends to hold a second virtual hearing to receive comments on the DEIS.

DATES: The second virtual public hearing will be held on January 31, 2023, beginning at 5:30 p.m. Pacific time. Interested persons are invited to submit comments on or before February 23, 2023.

ADDRESSES: Send your comments to the Northwest Regional Director, Bryan Mercier, by any of the following methods:

• Mail, hand-carry comments to Bryan Mercier, Northwest Regional Director, Bureau of Indian Affairs, Northwest Region, 911 Northeast 11th Avenue, Portland, Oregon 97232-4169. Please include your name, return address, and the caption: “DEIS Comments, Coquille Indian Tribe Fee-to-Trust and Gaming Facility Project,” on the first page of your written comments.

• Email comments to CoquilleCasinoEIS@bia.gov with “DEIS Comments, Coquille Tribe Medford Gaming Facility Project” as the subject of your email.

FOR FURTHER INFORMATION CONTACT: Brian Haug, Northwest Regional Director, Bureau of Indian Affairs, Northwest Region, (503) 231-6780 (Office), (503) 231-2201 (Fax), CoquilleCasinoEIS@bia.gov.

SUPPLEMENTARY INFORMATION: On November 25, 2022, Notice of Availability of the DEIS for the Coquille Indian Tribe fee-to-trust and Gaming Facility Project, City of Medford, Jackson County, Oregon was published in the Federal Register by the BIA (87 FR 72505) and the Environmental Protection Agency (87 FR 72482). On December 15, 2022, BIA held the first virtual public hearing.

Public review of the DEIS is part of the administrative process for BIA's evaluation of the Tribe's application to acquire approximately 2.4 acres of land in trust in the City of Medford, Jackson County, Oregon, for gaming purposes. Additional information on the proposed action, alternatives to the proposed action, and potential environmental impacts associated with the proposed action and alternatives can be found in the DEIS. The DEIS will be available for public review at:

• Medford Branch Library of Jackson County Library Services, 205 South Central Avenue, Medford, Oregon 97501; and online at www.coquille-eis.com.

Public Comment Availability

The second virtual public hearing will be held on January 31, 2023, beginning at 5:30 p.m. Pacific time, and will run until the last comment public comment is received.

• Please visit https://us06web.zoom.us/webinar/register/WN_bWQot-T_R52SpXk8KOW0tw to register for the virtual public hearing.

• Please visit https://coquille-eis.com for additional information and instructions for participation in the virtual public hearing.

Comments, including names and addresses of respondents, will be included as part of the administrative record and responses to comments on the Final EIS. Before including your address, phone number, email address, or other personal identifying information in your comment, you should be aware that your entire comment—including your personal identifying information—may be made publicly available at any time. While you can ask in your comment that your personal identifying information be withheld from public review, the BIA cannot guarantee that this will occur.

Authority

This notice is published in accordance with section 1503.1 of the Council on Environmental Quality regulations (40 CFR 1500 et seq.) and the Department of the Interior regulations (43 CFR part 46) implementing the procedural requirements of the NEPA (42 U.S.C. 4321 et seq.), and in accordance with the exercise of authority delegated to the Assistant Secretary—Indian Affairs by part 209 of the Department Manual.

Bryan Newland,
Assistant Secretary—Indian Affairs.

[FR Doc. 2022-27573 Filed 12-19-22; 8:45 am]

BILLING CODE 4337-15-P